DEPARTMENT OF DEFENSE

Office of the Secretary

Charter Establishment of Department of Defense Federal Advisory Committees—Department of the Navy Science and Technology Board

AGENCY: Department of Defense (DoD).

ACTION: Establishment of Federal advisory committee.

SUMMARY: The DoD gives notice that it is establishing the Department of the Navy Science and Technology Board (DoN S&T Board) as a discretionary Federal advisory committee.

FOR FURTHER INFORMATION CONTACT: Jim Freeman, DoD Advisory Committee Management Officer, 703-692-5952, james.d.freeman4.civ@mail.mil.

SUPPLEMENTARY INFORMATION: This committee is being established in accordance with the Federal Advisory Committee Act (FACA) and 41 CFR 102-3.50(a). The charter and contact information for the DoN S&T Board's Designated Federal Officer (DFO) are found at: https://www.facadatabase.gov/FACA/apex/FACAPublicAgencyNavigation.

The DoN S&T Board is a discretionary Federal advisory committee established to provide independent advice and recommendations on matters relating to the Department of the Navy's (DoN) scientific, technical, manufacturing, acquisition, logistics, medicine, and business management functions. These matters include, but are not limited to, the pressing and complex scientific and technological problems facing the DoD in such areas as research, engineering, organizational structure and process, business and functional concepts, and manufacturing, and will ensure the identification of new technologies and new applications of technology in those areas to strengthen national security.

The DoN S&T Board shall be composed of no more than 20 members who are prominent authorities in one or more of the following disciplines and fields: science, technology, manufacturing, acquisition, logistics, medicine, climate, and business management functions, as well as other matters of special interest to the DoN. Membership will consist of private and public leaders, fairly balanced to provide a diversity of background, experience, and thought in support of the DoN S&T Board mission.

Individual members are appointed according to DoD policy and procedures and serve a term of service of one-to-four years with annual renewals. One member will be appointed as Chair of the DoN S&T Board. No member, unless approved according to DoD policy and procedures, may serve more than two consecutive terms of service on the DoN S&T Board, or serve on more than two DoD Federal advisory committees at one time.

DoN S&T Board members who are not full-time or permanent part-time Federal civilian officers or employees are appointed as experts or consultants, pursuant to 5 U.S.C. 3109, to serve as special government employee members. DoN S&T Board members who are full-time or permanent part-time Federal civilian officers or employees are appointed pursuant to 41 CFR 102-3.130(a), to serve as regular government employee members.

All DoN S&T Board members are appointed to provide advice based on their best judgment without representing any particular point of view and in a manner that is free from conflict of interest. Except for reimbursement of official DoN S&T Board-related travel and per diem, members serve without compensation.

The public or interested organizations may submit written statements about the DoN S&T Board mission and functions. Written statements may be submitted at any time or in response to the stated agenda of planned meetings of the DoN S&T Board. All written statements shall be submitted to the DoN S&T Board's DFO, and this individual will ensure that the written statements are provided to the membership for their consideration.

Dated: July 12, 2023.
Aaron T. Siegel,
Alternate OSD Federal Register Liaison Officer, Department of Defense.

[FR Doc. 2023-15089 Filed 7-14-23; 8:45 am]

BILLING CODE 5001-06-P